DEPARTMENT OF AGRICULTURE

Forest Service

Rogue/Umpqua Resource Advisory Committee (RAC)

AGENCY: Forest Service, USDA Forest Service Action: Action of Meeting.

SUMMARY: The Rogue/Umpqua Resource Advisory Committee (RAC) will meet on Wednesday and Thursday, July 22 and 23, in Roseburg, Oregon, at the Umpqua National Forest Headquarters, 2900 NW. Stewart Parkway. On July 22, the meeting will begin at 9 a.m. and conclude at 4:30 p.m. On July 23, the meeting will begin at 8 a.m. and conclude at 4:15 p.m. Agenda items on July 22 include (1) update on fiscal year 2009 Title II projects at 9:15 a.m., (2) 30-minute public forum at 10 a.m., (3) review and vote on proposed projects for Lane County at 10:45 a.m., and (4) review and vote on proposed projects for Jackson County at 1:45 p.m. The agenda for July 23 includes (1) 30-minute public forum at 8:10 a.m., (2) review and vote on Douglas County projects at 8:40 a.m., (3) review and vote on Klamath County projects at 2:15 p.m., and (4) discussion of monitoring Title II projects at 3:45 p.m. Written public comments may be submitted prior to the meeting by sending them to Designated Federal Official Cliff Dils at the address given below before July 21, 2009.

FOR FURTHER INFORMATION CONTACT: For more information regarding this meeting, contact Designated Federal Official Cliff Dils; Umpqua National Forest; 2900 NW. Stewart Parkway, Roseburg, Oregon 97470; (541) 957-3203.

Dated: June 29, 2009.
Gina Freel,
Acting Forest Supervisor, Umpqua National Forest.

[FR Doc. E9-15921 Filed 7-7-09; 8:45 am]

BILLING CODE 3410-11-M